SUSQUEHANNA RIVER BASIN COMMISSION

Actions Taken at December 14, 2012, Meeting

AGENCY: Susquehanna River Basin Commission.

ACTION: Notice.

SUMMARY: As part of its regular business meeting held on December 14, 2012, in Annapolis, Maryland, the Commission took the following actions: (1) Approved settlement involving a water resources project; (2) approved or tabled the applications of certain water resources projects; (3) rescinded approvals for two projects and tabled a rescission for another project; and (4) took additional actions, as set forth in the SUPPLEMENTARY INFORMATION below.

DATES: December 14, 2012.

ADDRESSES: Susquehanna River Basin Commission, 1721 N. Front Street, Harrisburg, PA 17102-2391.

FOR FURTHER INFORMATION CONTACT: Richard A. Cairo, General Counsel, telephone: (717) 238-0423, ext. 306; fax: (717) 238-2436; email: rcairo@srbc.net. Regular mail inquiries may be sent to the above address. See also Commission Web site at www.srbc.net.

SUPPLEMENTARY INFORMATION: In addition to the actions taken on projects identified in the summary above and the listings below, the following items were also presented or acted upon at the business meeting: (1) Recognized former Maryland Alternate Commissioner Herbert M. Sachs for his service to the Commission and established an SRBC Lifetime Achievement Award in Watershed Management in his name; (2) heard a presentation on eel collection, stocking, and research by U.S. Fish and Wildlife Service Fisheries Biologist Ian Park; (3) adopted a resolution urging adequate funding for the Susquehanna Flood Forecast & Warning System (SFFWS), the Advanced Hydrologic Prediction Services Program (AHPS), and the National Streamflow Information Program (NSIP); (4) adopted a Low Flow Protection Policy (LFPP); (5) authorized publication of notice of proposed rulemaking; (6) approved two grant amendments and authorized execution of a Feasibility Cost Sharing Agreement (FCSA) under terms negotiated by staff, and subject to subsequent ratification, for Phase II of the Susquehanna River Basin Ecological Flow Management Study; and (7) denied a request for an administrative hearing of the Municipal Authority of the Township of East Hempfield.

Compliance Matter

The Commission approved a settlement in lieu of civil penalty for the following project:

1. Chobani, Inc.; South Edmeston Facility, Town of Columbus, Chenango County, N.Y.—$130,000.

Rescission of Project Approvals

The Commission rescinded approvals for the following projects:

1. Project Sponsor and Facility: Cinram Manufacturing, Borough of Olyphant, Lackawanna County, Pa. (Docket Nos. 19960701 and 19960701-1).

2. Project Sponsor and Facility: Woolrich, Inc., Gallagher Township, Clinton County, Pa. (Docket No. 20050305).

Rescission of Project Approval Tabled

The Commission tabled a rescission for the following project:

1. Project Sponsor and Facility: Clark Trucking, LLC Northeast Division (Lycoming Creek), Lewis Township, Lycoming County, Pa. (Docket No. 20111207).

Project Applications Approved

The Commission approved the following project applications:

1. Project Sponsor and Facility: Aqua Infrastructure, LLC (Source Approval), Piatt, Mifflin, Watson, Cummings, Anthony, Lycoming, and Cogan House Townships, Lycoming County, Pa. Modification to expand regional pipeline system (Docket No. 20120604).

2. Project Sponsor and Facility: Cabot Oil & Gas Corporation (Bowman Creek), Eaton Township, Wyoming County, Pa. Renewal of surface water withdrawal of up to 0.290 mgd (peak day) (Docket No. 20080929).

3. Project Sponsor and Facility: Cabot Oil & Gas Corporation (Meshoppen Creek), Lemon Township, Wyoming County, Pa. Renewal of surface water withdrawal of up to 0.054 mgd (peak day) (Docket No. 20080920).

4. Project Sponsor and Facility: Cabot Oil & Gas Corporation (Tunkhannock Creek), Lenox Township, Susquehanna County, Pa. Renewal of surface water withdrawal of up to 0.250 mgd (peak day) (Docket No. 20080918).

5. Project Sponsor and Facility: Centura Development Company, Inc., Old Lycoming Township, Lycoming County, Pa. Groundwater withdrawal of up to 0.250 mgd (30-day average) from Well 1.

6. Project Sponsor and Facility: Chesapeake Appalachia, LLC (Wyalusing Creek), Rush Township, Susquehanna County, Pa. Renewal of surface water withdrawal of up to 0.715 mgd (peak day) (Docket No. 20110607).

7. Project Sponsor and Facility: Chief Oil & Gas LLC (Sugar Creek), Burlington Borough and Burlington Township, Bradford County, Pa. Surface water withdrawal of up to 0.099 mgd (peak day).

8. Project Sponsor and Facility: EQT Production Company, Duncan Township, Tioga County, Pa. Groundwater withdrawal of up to 0.072 mgd (30-day average) from Antrim Well 1 and groundwater withdrawal of up to 0.072 mgd (30-day average) from Antrim Well 2.

9. Project Sponsor and Facility: EQT Production Company (Pine Creek), Porter Township, Lycoming County, Pa. Surface water withdrawal of up to 1.000 mgd (peak day).

10. Project Sponsor and Facility: EXCO Resources (PA), LLC (Little Muncy Creek), Franklin Township, Lycoming County, Pa. Surface water withdrawal of up to 0.999 mgd (peak day).

11. Project Sponsor and Facility: Borough of Patton, Clearfield Township, Cambria County, Pa. Groundwater withdrawal of up to 0.316 mgd (30-day average) from Well 2 and groundwater withdrawal of up to 0.316 mgd (30-day average) from Well 3.

12. Project Sponsor and Facility: Pennsylvania General Energy Company, L.L.C. (First Fork Sinnemahoning Creek), Wharton Township, Potter County, Pa. Renewal of surface water withdrawal of up to 0.231 mgd (peak day) (Docket No. 20080928).

13. Project Sponsor and Facility: Southwestern Energy Production Company (Lycoming Creek—Bodines), Lewis Township, Lycoming County, Pa. Request for extension of Docket No. 20091207.

14. Project Sponsor and Facility: Southwestern Energy Production Company (Lycoming Creek—Ralston), McIntyre Township, Lycoming County, Pa. Request for extension of Docket No. 20091210.

15. Project Sponsor and Facility: Southwestern Energy Production Company (Middle Lake), New Milford Township, Susquehanna County, Pa. Surface water withdrawal of up to 0.070 mgd (peak day).

16. Project Sponsor and Facility: Talisman Energy USA Inc. (Tamarack Lake), Armenia Township, Bradford County, Pa. Surface water withdrawal of up to 0.040 mgd (peak day).

17. Project Sponsor and Facility: West Cocalico Township Authority, West Cocalico Township, Lancaster County, Pa. Renewal of groundwater withdrawal of up to 0.259 mgd (30-day average) from Well 2 (Docket No. 19780101).

18. Project Sponsor and Facility: York County Solid Waste and Refuse Authority, Hopewell Township, York County, Pa. Modification to replace a remediation well source with no increase in the total system withdrawal limit (Docket No. 19970506).

Project Applications Tabled

The Commission tabled the following project applications:

1. Project Sponsor and Facility: Black Bear Waters, LLC (Lycoming Creek), Lewis Township, Lycoming County, Pa. Modification to increase surface water withdrawal by an additional 0.500 mgd (peak day), for a total of 0.900 mgd (peak day) (Docket No. 20120303).

2. Project Sponsor and Facility: Caernarvon Township Authority, Caernarvon Township, Berks County, Pa. Application for renewal of groundwater withdrawal of up to 0.035 mgd (30-day average) from Well 6 (Docket No. 19820912).

3. Project Sponsor and Facility: Carrizo (Marcellus), LLC (Silver Creek), Silver Lake Township, Susquehanna County, Pa. Application for surface water withdrawal of up to 0.720 mgd (peak day).

4. Project Sponsor and Facility: Chesapeake Appalachia, LLC (Susquehanna River), Athens Township, Bradford County, Pa. Application for renewal of surface water withdrawal of up to 1.440 mgd (peak day) (Docket No. 20080906).

5. Project Sponsor and Facility: Chesapeake Appalachia, LLC (Susquehanna River), Mehoopany Township, Wyoming County, Pa. Application for renewal of surface water withdrawal of up to 0.999 mgd (peak day) (Docket No. 20080923).

6. Project Sponsor and Facility: Chesapeake Appalachia, LLC (Susquehanna River), Wysox Township, Bradford County, Pa. Application for renewal of surface water withdrawal of up to 0.999 mgd (peak day) (Docket No. 20080914).

7. Project Sponsor and Facility: Citrus Energy (Susquehanna River), Washington Township, Wyoming County, Pa. Application for renewal of surface water withdrawal of up to 1.994 mgd (peak day) (Docket No. 20081205).

8. Project Sponsor and Facility: Equipment Transport, LLC (Pine Creek), Gaines Township, Tioga County, Pa. Application for surface water withdrawal of up to 0.467 mgd (peak day).

9. Project Sponsor and Facility: Falling Springs Water Works, Inc. (Falling Springs Reservoir), Ransom Township, Lackawanna County, Pa. Application for surface water withdrawal of up to 0.800 mgd (peak day).

10. Project Sponsor and Facility: Galeton Borough Water Authority, Galeton Borough, Potter County, Pa. Application for groundwater withdrawal of up to 0.288 mgd (30-day average) from the Germania Street Well.

11. Project Sponsor and Facility: Houtzdale Municipal Authority (Beccaria Springs), Gulich Township, Clearfield County, Pa. Application for surface water withdrawal of up to 5.000 mgd (peak day).

12. Project Sponsor and Facility: Mark Manglaviti & Scott Kresge (Tunkhannock Creek), Tunkhannock Township, Wyoming County, Pa. Application for surface water withdrawal of up to 0.999 mgd (peak day).

13. Project Sponsor and Facility: Mountain Energy Services, Inc. (Tunkhannock Creek), Tunkhannock Township, Wyoming County, Pa. Modification to increase surface water withdrawal by an additional 0.499 mgd (peak day), for a total of 1.498 mgd (peak day) (Docket No. 20100309).

Project Applications Withdrawn

The following project applications were withdrawn by the project sponsors:

1. Project Sponsor and Facility: EXCO Resources (PA), LLC (Pine Creek), Watson Township, Lycoming County, Pa. Application for surface water withdrawal of up to 1.500 mgd (peak day).

2. Project Sponsor and Facility: Gaberseck Brothers (Odin Pond 2), Keating Township, Potter County, Pa. Application for surface water withdrawal of up to 0.249 mgd (peak day).

Authority: Pub. L. 91-575, 84 Stat. 1509 et seq., 18 CFR parts 806, 807, and 808.

Dated: December 21, 2012.
Thomas W. Beauduy,
Deputy Executive Director.

[FR Doc. 2013-00309 Filed 1-9-13; 8:45 am]

BILLING CODE 7040-01-P